DEPARTMENT OF THE INTERIOR

Fish and Wildlife Service

[FWS-R3-ES-2018-N131; FXES11130300000-189-FF03E00000]

Endangered and Threatened Wildlife and Plants; Draft Recovery Plan for the Eastern Massasauga Rattlesnake

AGENCY: Fish and Wildlife Service, Interior.

ACTION: Notice of availability and request for public comment.

SUMMARY: We, the U.S. Fish and Wildlife Service, announce the availability of the draft recovery plan for the threatened eastern massasauga rattlesnake. We request review and comment on this draft recovery plan from local, State, and Federal agencies, and the public.

DATES: In order to be considered, comments must be received on or before March 27, 2020.

ADDRESSES: Document availability: You may obtain a copy of the draft recovery plan by one of the following methods:

• U.S. Mail: U.S. Fish and Wildlife Service; Chicago Ecological Services Field Office, Attention: Louise Clemency; 230 South Dearborn, Suite 2398, Chicago, IL 60604.

• Telephone: Louise Clemency, 312-216-4720.

• Internet: Download the document at the Service's Midwest Region website at https://www.fws.gov/midwest/Endangered/reptiles/eama/index.html.

Comment Submission: You may submit comments by one of the following methods:

• Mail or Hand-Delivery: Submit written comments to the above U.S. mail address.

• Fax: 312-837-1788, Attention: Louise Clemency. Please include “Eastern Massasauga DRP” in the subject line.

• Email: louise_clemency@fws.gov. Please include “Eastern Massasauga DRP” in the subject line.

For additional information about submitting comments, see Availability of Public Comments in SUPPLEMENTARY INFORMATION.

FOR FURTHER INFORMATION CONTACT: Louise Clemency, by one of the methods in ADDRESSES.

SUPPLEMENTARY INFORMATION: We, the U.S. Fish and Wildlife Service (Service), announce the availability of the draft recovery plan for the threatened eastern massasauga rattlesnake (Sistrurus catenatus, “EMR”) for public review and comment. The draft recovery plan includes objective, measurable criteria and management actions as may be necessary for removal of the species from the Federal List of Endangered and Threatened Wildlife. We request review and comment on this draft recovery plan from local, State, and Federal agencies, and the public.

Recovery Planning

Section 4(f) of the Endangered Species Act of 1973, as amended (Act), requires the development of recovery plans for listed species, unless such a plan would not promote the conservation of a particular species. Also pursuant to section 4(f) of the Act, a recovery plan must, to the maximum extent practicable, include (1) a description of site-specific management actions as may be necessary to achieve the plan's goals for the conservation and survival of the species; (2) objective, measurable criteria that, when met, would support a determination under section 4(a)(1) that the species should be removed from the List of Endangered and Threatened Species; and (3) estimates of the time and costs required to carry out those measures needed to achieve the plan's goal and to achieve intermediate steps toward that goal.

The Service has revised its approach to recovery planning. The revised process is intended to reduce the time needed to develop and implement recovery plans, increase recovery plan relevancy over a longer timeframe, and add flexibility to recovery plans so they can be adjusted to new information or circumstances. A recovery plan will include statutorily required elements (objective, measurable criteria, site-specific management actions, and estimates of time and costs), along with a concise introduction and our strategy for how we plan to achieve species recovery. The recovery plan is supported by a separate Species Status Assessment. The essential component to flexible implementation under this recovery process is producing a separate working document called the Recovery Implementation Strategy (implementation strategy). The implementation strategy steps down from the more general description of actions in the recovery plan to detail the specific, near-term activities needed to implement the recovery plan. The implementation strategy will be adaptable by being able to incorporate new information without having to concurrently revise the recovery plan, unless changes to statutory elements are required. The implementation strategy will be developed following publication of the final recovery plan and will be made available on the Service's website at that time.

Species Background

The EMR is a small pit viper that occurred historically in 10 States (Illinois, Indiana, Iowa, Michigan, Minnesota, Missouri, New York, Ohio, Pennsylvania, and Wisconsin) and in Ontario, Canada. It is believed that populations have been extirpated in at least two States (Minnesota and Missouri). The species is impacted by a number of threats. The loss of habitat was historically, and continues to be, the threat with greatest impact to the species, either through loss of habitat to development or through changes in habitat structure due to vegetative succession. Poaching, either by persecution or illegal collection for the pet trade, is also a continuing threat. Disease, new or increasingly prevalent, is another emerging threat to the EMR. Additionally, this species is vulnerable to the effects of climate change through increasing intensity of winter droughts and increasing risk of summer floods, particularly in the southwestern part of its range. (Refer to the Species Status Assessment Report (Szymanski et al. 2016) for a full discussion of the species' biology and threats.) Under the Act, the Service added the eastern massasauga rattlesnake as a threatened species to the Federal List of Endangered and Threatened Wildlife on September 30, 2016 (81 FR 67193).

Recovery Plan

Recovery Strategy

The recovery strategy for the EMR includes addressing the threats of habitat loss due to development, conversion of habitat to agriculture, changes to land cover due to succession by invasive woody species, persecution or poaching, effects of climate change (flooding or drought), and emerging diseases. Maintaining healthy populations will require protecting sufficient quantity of high-quality habitat and the reduction or management of threats where these populations occur. To maximize use of limited resources, we need to identify, then focus management and protection on, specific populations that will ensure that the species' breadth of adaptive diversity is maintained. The strategy also includes increasing public tolerance and support for EMR conservation by working with landowners, partners, and the public. Lastly, successful recovery will necessitate an adaptive management approach. Using an adaptive management framework and monitoring during recovery implementation will allow us to evaluate how to best manage for suitable habitat conditions, protect against disease epidemics, and lessen the effects of climate change to ensure that the recovery actions are effective in recovering the EMR.

Recovery Criteria

The ultimate recovery goal is to remove the eastern massasauga rattlesnake from the Federal List of Endangered and Threatened Wildlife (delist) by ensuring the long-term viability of the species in the wild. In the recovery plan, we define the following delisting criteria based on the best available information on the species:

1. The probability of continued persistence over 50 years is 95 percent within each of 3 conservation units.

2. An adequate quantity and configuration of land is being managed and is expected to continue to be managed in a way that will support EMR populations such that a probability of persistence of 95 percent over 50 years in each of the 3 conservation units is maintained.

3. Threats from climate change and disease are addressed such that a probability of persistence of 95 percent over 50 years in each of the 3 conservation units is maintained.

The map showing the three species conservation units is available on the internet at https://www.fws.gov/midwest/Endangered/reptiles/eama/index.html.

Availability of Public Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act of 1973, as amended (16 U.S.C. 1531 et seq.).

Lori H. Nordstrom,
Assistant Regional Director, Ecological Services, Midwest Region.

[FR Doc. 2020-03778 Filed 2-25-20; 8:45 am]

BILLING CODE 4333-15-P